DEPARTMENT OF THE INTERIOR

Office of Natural Resources Revenue

[Docket No. ONRR-2016-0001; DS63610000 DR2000000.CH7000 167D0102R2]

Temporary Physical Address Change for General Ledger Team

AGENCY: Office of Natural Resources Revenue, Interior.

ACTION: Notice.

SUMMARY: ONRR is temporarily changing its physical address for courier services and personal deliveries.

DATES: Effective April 13, 2016.

FOR FURTHER INFORMATION CONTACT: Darrel Redford, Supervisory Accountant, at (303) 231-3085, or email at Darrel.Redford@onrr.gov

SUPPLEMENTARY INFORMATION: Effective April 13, 2016, all courier services and personal deliveries should be made to ONRR at the Denver Federal Center, Building 53, entrance E-20. Visitor parking is available near entrance E-20, with a phone to request entry. Call Armando Salazar at (303) 231-3585 or Janet Giron at (303) 231-3088 to gain entrance.

Dated: April 12, 2016.
Gregory J. Gould,
Director, Office of Natural Resources Revenue.

[FR Doc. 2016-09906 Filed 4-27-16; 8:45 am]

BILLING CODE 4335-30-P